DEPARTMENT OF THE INTERIOR

Bureau of Land Management

[OR-65891, LLORB00000-L51010000-GN0000-LVRWH09H0560; HAG-11-0038]

Notice of Availability of the Draft Environmental Impact Statement for the Celatom Mine Expansion Project in Harney and Malheur Counties, OR

AGENCY: Bureau of Land Management, Interior.

ACTION: Notice of availability.

SUMMARY: In accordance with the National Environmental Policy Act of 1969, as amended (NEPA), the Bureau of Land Management (BLM) has prepared a Draft Environmental Impact Statement (EIS) for the proposed Celatom Mine Expansion Project and by this notice is announcing the opening of the comment period.

DATES: To ensure comments will be considered, the BLM must receive written comments on the Draft EIS within 45 days following the date the Environmental Protection Agency publishes its Notice of Availability in the Federal Register. The BLM will announce future meetings or hearings and any other public involvement activities at least 15 days in advance through public notices, media releases, and/or mailings.

ADDRESSES: You may submit comments related to the Celatom Mine Expansion Project by any of the following methods:

• E-mail: OREPCME@blm.gov;

• Mail: Celatom Mine Expansion Project Lead, BLM Burns District Office, 28910 Highway 20 West, Hines, Oregon 97738;

• Fax: (541) 573-4411, Attention Celatom Mine Expansion Project Lead; or

• Written comments may also be hand-delivered to the BLM Burns District Office at the address shown above.

Copies of the Draft EIS are available at the Burns District Office at the address listed above and electronically at the following Web site: http://www.blm.gov/or/districts/burns/plans/index.php.

FOR FURTHER INFORMATION CONTACT: For further information contact William Dragt, Celatom Mine Expansion Project Lead, telephone (541) 573-448-4400; address 28910 Highway 20 West, Hines, Oregon 97738; or e-mail OREPCME@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: EP Minerals (EPM), formally known as EaglePicher Minerals, operates a diatomaceous earth mine complex (Celatom Mine Complex), approximately 50 miles east of Burns and 60 miles west of Vale, Oregon. The Celatom Mine Complex currently consists of three open-pit mines: Kelley Field (on BLM-administered land), Section 36 (on State land), and Beede Desert (on private land) in Harney and Malheur Counties, Oregon.

Existing EPM mining operations on BLM-administered land in the Project Area were described in a Mine Plan of Operations (MPO) submitted by EPM to the BLM in 1984.

The total MPO area was 1,634 acres. The BLM approved the MPO after completion of an Environmental Assessment in 1985 (BLM 1985). Existing EPM stockpile operations on 35 acres of BLM-administered land at the Vines Hill Stockpile Area (VHSA) approximately 14 miles west of Vale, Oregon, were described in an MPO submitted by EPM and approved by the Vale District BLM in 1986 (BLM 1986). Existing EPM mining operations on private and State land in the Project Area and EPM mill operations on private land approximately 7 miles west of Vale operate under county and State permits. During preparation of this EIS, EPM is authorized to continue operations within the Project Area on BLM-administered land as approved by BLM in 1985, at the VHSA as approved by BLM in 1986, and on private and State lands permitted by county and State agencies.

In 2008, EPM submitted an MPO to the BLM for 12,640 acres. The MPO area includes expanded mining operations on 1,131 acres of BLM administered lands which would be disturbed for decades plus exploration and sampling on 250 acres which would be disturbed for several years and then reclaimed. The remaining 11,259 acres in the MPO area lies between the mines. This area will be largely undisturbed by mining activities except for 5 acres for a new connector road and 250 acres to be used for exploration and sampling. Except for safety considerations, this area also remains open to BLM's multiple uses. Due to the size of the proposed operations, the BLM determined preparation of an EIS is necessary to comply with the requirements of the NEPA. The Draft EIS analyzes proposed activities on BLM-administered land and cumulative effects from proposed activities on State-administered and private land, all within the project boundary. This Draft EIS would analyze EPM's proposed MPO as well as changes or conditions necessary to meet the performance standards of 43 Code of Federal Regulations (CFR) 3809.420 to prevent unnecessary or undue degradation. The proposed operations associated with the project include:

(1) Expanding operations: At the Kelly Field area, expand mining operations to 72.5 acres of BLM-administered land; in Section 36, expand mining operations on State-administered land; at Beede Desert, construct two new roads to connect Hidden Valley and Section 36 and establish access from Hidden Valley north to Eagle; and, at Puma claims, expand operations on private land to 5 acres.

(2) Developing new mining operations on BLM-administered land on 225 acres at Hidden Valley, 462.5 acres in North Kelly Field, 50 acres in Section 25, and 286 acres in Eagle.

(3) Exploratory drilling on 200 acres of BLM-administered land, as well as development drilling, sampling, trenching, and bulk sampling on 50 acres of BLM-administered land within the project boundary. Exploration and subsequent trenching and bulk sampling would be conducted to delineate boundaries of known ore reserves and to explore for new deposits. These activities could occur on BLM-administered lands anywhere within the Project Area. Activities under the Proposed Action, including final reclamation, would be conducted over the course of approximately 50 years. EPM proposes no changes to the permitted operations at VHSA.

The proposed types of expansion of mining operations and development of new mining operations in the Project Area include open pit mines, roads within the mine operations areas, and other operations such as stock piling and ancillary features such as service areas.

A Notice of Intent to Prepare an EIS for the Celatom Mine Expansion Project was published in the Federal Register on September 15, 2008 (73 FR 53268). Public participation was solicited through the media, mailings, and the BLM Web site. Public meetings were held in Burns and Vale, Oregon, in October 2008. Major issues brought forward during the public scoping process and addressed in the Draft EIS include: Air Quality; Forestry and Woodlands; Geology and Minerals; Grazing Management; Land Use and Realty; Migratory Birds; Noise; Recreation; Social and Economic Values; Soils; Special Status Species; Transportation and Roads; Vegetation; Visual Resources; Water Quality; Wetlands and Riparian Zones; Wilderness Characteristics; and Wildlife and Fisheries.

Please note that public comments and information submitted including names, street addresses and e-mail addresses of respondents will be available for public review and disclosure at the above BLM address during regular business hours (7:45 a.m. to 4:30 p.m.), Monday through Friday, except holidays.

Before including your address, phone number, e-mail address, or other personal identifying information in your comment, you should be aware that your entire comment, including your personal identifying information, may be made publicly available at any time. While you can ask us in your comment to withhold your personal identifying information from public review, we cannot guarantee that we will be able to do so.

Authority: 40 CFR 1506.6 and 1506.10.

Kenny McDaniel,
District Manager, Burns.

[FR Doc. 2011-8333 Filed 4-7-11; 8:45 am]

BILLING CODE 4310-33-P